DEPARTMENT OF TRANSPORTATION

Federal Aviation Administration

[Policy Statement No. ANM-115-05-10]

Replacing Restraint Systems on Forward and Aft Facing Seats

AGENCY: Federal Aviation Administration (FAA), DOT.

ACTION: Notice of proposed policy; request for comments.

SUMMARY: The Federal Aviation Administration (FAA) announces the availability of proposed policy on Replacing Restraint Systems on Forward and Aft Facing Seats.

DATES: Send your comments on or before May 11, 2005.

ADDRESSES: Address your comments to the individual identified under FOR FURTHER INFORMATION CONTACT.

FOR FURTHER INFORMATION CONTACT: Mike Thompson, Federal Aviation Administration, Transport Airplane Directorate, Transport Standards Staff, Standardization Branch, ANM-113, 1601 Lind Avenue, SW., Renton, WA 98055-4056; telephone (425) 227-1157; fax (425) 227-1232; e-mail: Michael.t.thompson@faa.gov.

SUPPLEMENTARY INFORMATION:

Comments Invited

The proposed policy is available on the Internet at the following address: http://www.airweb.faa.gov/rgl. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-115-05-10.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The FAA has issued Amendment 25-64 to provide an increased level of safety to seated occupants. Seat performance, including the restraint system, under dynamic conditions as defined in § 25.562, is an important consideration of this amendment. Replacing a restraint system on a seat certified under § 25.562 requires new dynamic test(s) to be conducted using the actual seat. These dynamic tests can be costly and time-consuming. The FAA conducted research and found an acceptable new method of certifying restraint systems using a rigid seat fixture instead of the actual seat during dynamic tests. This method will significantly reduce the cost and time associated with certifying replacement restraint systems. This policy memorandum presents this new means of compliance.

Issued in Renton, Washington, on March 25, 2005.
Ali Bahrami,
Manager, Transport Airplane Directorate, Aircraft Certification Service.

[FR Doc. 05-7194 Filed 4-8-05; 8:45 am]

BILLING CODE 4910-13-M